ENVIRONMENTAL PROTECTION AGENCY

40 CFR Part 63

OAR-2002-0040, FRL-7461-4]

RIN 2060-A174

National Emission Standards for Hazardous Air Pollutants: Engine Test Cells/Stands

Correction

In rule document 03-5521 beginning on page 28774 in the issue of Tuesday, May 27, 2003 make the following correction:ÿ7E

PART 63—[Corrected]ÿ7E

On page 28785, in the second column, “Subpart PPPPP—National Emission Standards for Hazardous Air Pollutants for Engine Test Cells/Standards ” should read “Subpart PPPPP—National Emission Standards for Hazardous Air Pollutants for Engine Test Cells/Stands”.

[FR Doc. 03-5521 Filed 8-27-03; 8:45 am]

BILLING CODE 1505-01-D